DEPARTMENT OF COMMERCE

National Oceanic and Atmospheric Administration

[I.D. 043002C]

Taking and Importing of Marine Mammals

AGENCY: National Marine Fisheries Service (NMFS), National Oceanic and Atmospheric Administration (NOAA), Commerce.

ACTION: Request for nominations.

SUMMARY: The Secretary of Commerce is required by the Marine Mammal Protection Act (MMPA) to conduct specified scientific research and, by December 31, 2002, to make a finding based on the results of that research, on information obtained under the International Dolphin Conservation Program (IDCP), and on any other relevant information as to whether the intentional deployment on or the encirclement of dolphins with purse seine nets is having a “significant adverse impact” on any depleted dolphin stock in the eastern tropical Pacific Ocean (ETP). A proposed organized decision process (ODP) and request for public comment were published in the Federal Register on Feb. 15, 2002 describing information the Secretary will consider for the final finding and outlining two expert panels that will assess this information.

This notice solicits nominations for scientists to serve on two expert panels referenced in the proposed ODP: the Ecosystem Expert Panel and the Indirect Effects Expert Panel. It also describes the process NMFS will carry out to solicit nominations, select five qualified scientists for each panel, and recommend them for appointment by the Secretary. The expert panels are scheduled to meet September 4-6, 2002, in La Jolla, CA. Each expert panel will assess peer-reviewed scientific studies and other information and individually provide scientific advice to address specific issues the Secretary will be considering in making his final finding.

DATES: Nominations must be received by June 24, 2002.

ADDRESSES: Nominations should be sent to the Director, NMFS Office of Science and Technology, F/ST, 1315 East-West Highway, Silver Spring, MD, 20910. Nominations may also be sent via facsimile at 301-713-1875. Nominations will not be accepted if submitted via electronic mail or the Internet.

FOR FURTHER INFORMATION CONTACT: Nicole R. Le Boeuf, Office of Protected Resources, NMFS, 301-713-2322.

SUPPLEMENTARY INFORMATION:

Background

The MMPA, 16 U.S.C. 1361 et seq., as amended by the International Dolphin Conservation Program Act (IDCPA), (Public Law 105-42), requires the Secretary of Commerce to conduct scientific research on depleted dolphin stocks in the ETP. The Dolphin Protection Consumer Information Act (16 U.S.C. 1385), as amended by the IDCPA, requires the Secretary to make a finding by December 31, 2002, based on the scientific research, information obtained under the IDCP, and any other relevant information, as to whether the intentional deployment on or encirclement of dolphins with purse seine nets is having a “significant adverse impact” on any depleted dolphin stock in the ETP. There are three depleted dolphin stocks in the ETP: northeastern offshore spotted, eastern spinner, and coastal spotted.

The Organized Decision Process

The proposed ODP provides the Secretary with a systematic approach for evaluating multiple types of data. The ODP guides the Secretary through four separate questions regarding the extent of fishery and environmental effects on depleted dolphin stocks to assist in the final decision. These questions focus on (1) the ETP Ecosystem, (2) Direct Fishing Mortality, (3) Indirect Effects, and (4) Dolphin Stock Status and Trends.

Questions and Charge to the Ecosystem Panel

The questions for the Ecosystem Panel are: during the period of the fishery, has the carrying capacity of the ETP for the three depleted dolphin stocks declined, or has the ecological structure of the ETP changed in a manner or to an extent that could impede depleted dolphin stocks from growing at rates expected in a stable ecosystem? Or has the carrying capacity increased substantially or the ecological structure changed in any way that could promote the three depleted dolphin stocks to grow at rates faster than expected in a static ecosystem?

To determine the answer to these questions, the Secretary will consider scientific information collected and/or evaluated by NMFS, as well as information rendered individually from members of a panel of independent scientific experts in biological oceanography and ecology (the Ecosystem Panel). The panel members’ assessments will be based on their review of relevant oceanographic and ecosystem data (physical and biological habitat and distribution, abundance, and ecology of other organisms in the ETP) from the period of the fishery.

Question and Charge to the Indirect Effects Panel

The question for the Indirect Effects Panel is: for each depleted dolphin stock, is the estimated number of dolphins affected by the tuna fishery (considering data on sets per year, mortality attributable to the fishery, indicators of stress in blood, skin and other tissues, cow-calf separation, and other relevant indirect effects information) at a level that is cause for concern (how and to what degree)?

To determine the answer to these questions, the Secretary will consider scientific information collected and/or evaluated by NMFS, as well as information rendered individually from the Indirect Effects Panel. The panel will include independent scientific experts in veterinary science, physiology, and other stress-related fields. The panel members’ assessments will be based on their review of relevant behavioral, ecological, immunological, pathological, and other information with respect to the three depleted dolphin stocks. For this question, the Secretary will also consider the evidence presented by the Ecosystem Panel members regarding possible changes in the carrying capacity and/or the ecosystem structure of the ETP and how it relates to adverse impacts attributable to the fishery on the dolphin stocks as described above.

Nomination Process

Any individual or organization may submit nominations for either or both of the two expert panels. Nominations should include:

1. The name of the nominee and their contact information;

2. A statement of background;

3. A statement of qualifications; and

4. The submitting person or organization’s name and affiliation.

Panel Member Qualifications

Nominees must have outstanding scientific credentials relevant to the particular panel and be recognized internationally in their fields of expertise. Credentials must include: (1) doctorate degree from an accredited university or equivalent professional experience related to the questions before each panel; (2) established publication record in juried scientific journals related to the questions before each panel; (3) distinguished professional reputation. Nominees may be affiliated with international as well as domestic scientific bodies, academia, natural resource management agencies, or related organizations. Nominees must be available to travel to the expert panel meetings in La Jolla, CA, September 4-6, 2002, and they must be able to spend the necessary time in advance to prepare for the meeting.

To avoid conflicts of interest and ensure an independent panel, nominees must be able to certify and appointees must certify that they will provide their expert advice free from the influence of Government managers, the fishing industry, environmental groups, or any other interested party and that:

1. They have not received in the past 2 years funds in excess of $20 from any industry or environmental group with a vested interest in any resource for which NMFS has stewardship responsibilities, and

2. They have not received in the past 2 years funds in excess of $20 directly from NMFS via a sole-source contract, other than for invitational travel.

Selection Process

The Secretary will seek advice from professional societies on the qualifications of the nominees. A committee composed of one scientist from the Inter-American Tropical Tuna Commission, one scientist from the Marine Mammal Commission, one scientist from an independent reviewing agency, and three senior scientists from NMFS, including the Director, NMFS Office of Science and Technology, as the ex-officio chair, will select and rank qualified expert panel candidates, with advice from the professional societies. The Director will provide this committee’s recommendations to the Secretary, including a ranked list of eight candidates for each panel. The Secretary will appoint two panels of five members each from the list of recommended candidates.

Format of the Expert Panel Meetings

Each panel will meet for 3 days. The first day will involve overview presentations by specialists from NMFS, research institutions, fishery management agencies, and others. The second and third days of each panel discussion will entail panel deliberations and individual drafting sessions. Within five days of the expert panel adjournment, each panel member will submit a complete individual assessment report to the Director, NMFS Office of Science and Technology, for use in the ODP. The panel member reports will be made available to the public with the final finding.

Role of Expert Panel Members

The expert panel members will agree to provide individual written assessments, explicitly addressing the relevant question, to the Secretary to assist in his determination. The panel members will base their assessments on the presentations to the panels, panel member deliberations, the peer-reviewed IDCPA science report, additional information obtained under the IDCP, and other relevant information. The use of independent expert judgment in obtaining guidance on complex and highly technical bodies of information, such as those relevant to the Ecosystem and the Indirect Effects Questions, is consistent with science-based, decision-making processes like that proposed here.

Cost Reimbursement

Panel members will be paid $600 per diem. It is anticipated that preparation will require 80 hours and the panel meeting and travel will require another 40-60 hours. In addition, all travel expenses for panel members to attend the meeting will be paid by the federal government at the prevailing government rates.

Deadline for Submission of Nominations

NMFS is soliciting nominations by June 24, 2002. See ADDRESSES above.

Dated: May 3, 2002.
William W. Fox, Jr.
Director, Office of Science and Technology, National Marine Fisheries Service.

[FR Doc. 02-11635 Filed 5-8-02; 8:45 am]

BILLING CODE 3510-22-S